DEPARTMENT OF DEFENSE

Office of the Secretary

32 CFR Parts, 341, 342, 348, 350, 353, 363, 364, 365, 366, 367A, 368, 369, 370, 373, 376, 377, 380, 381, 382, 384, 385, 386, 387, 391, 394, 396, and 399

Removal of Parts

AGENCY: Department of Defense.

ACTION:

Final rule.

SUMMARY: The Department of Defense is removing various parts (organizational charters) from chapter I, Office of the Secretary of Defense. This administrative action removes obsolete information from the Code of Federal Regulations and notifies readers of the availability of the current version of the DoD documents.

DATES: This rule is effective December 29, 2003.

FOR FURTHER INFORMATION CONTACT: L. Bynum or P. Toppings, (703) 601-4722

SUPPLEMENTARY INFORMATION: The chart below identifies the parts being removed. All documents listed are DoD Directives which may be found at the Washington Headquarters Services website at http://www.dtic.mil/whs/directives/corres/html/ai7.htm.

Part No. | DoD Directive | Status
341 | 5105.2 | Current.
342 | 5124.4 | Canceled by DoD Directive 5100.89.
348 | 5136.11 | Canceled by DoD Directive 5136.12.
350 | 5137.1 | Current.
353 | 5142.1 | Current.
363 | 5105.38 | Canceled by DoD Directive 5105.65.
364 | 5110.4 | Current.
365 | 3030.1 | Current.
366 | 5141.1 | Current.
367a | 5105.45 | Current.
368 | 5100.1 | Current.
369 | 5134.6 | Canceled by DoD Directive 5134.12.
370 |  | No document available.
373 | 5106.1 | Current.
376 | 5100.81 | Completely canceled 9/30/2003.
377 | 5105.41 | Current.
380 | 5141.2 | Current.
381 | 5105.31 | Canceled by DoD Directive 5105.62.
382 | 5134.1 | Current.
384 | 5134.1 | Current.
385 | 5105.21 | Current.
386 | 5105.56 | Canceled by DoD Directive 5105.60.
387 | 5105.36 | Current.
391 | 5105.53 | Current.
394 | 5145.1 | Current.
396 |  | No document available.
399 | 5105.40 | Canceled by DoD Directive 5105.60.

List of Subjects in 32 CFR Parts 341, 342, 348, 350, 353, 363, 364, 365, 366, 367A, 368, 369, 370, 373, 376, 377, 380, 381, 382, 384, 385, 386, 387, 391, 394, 396, and 399

Organization and functions (Government agencies).

PARTS 341, 342, 348, 350, 353, 363, 364, 365, 366, 367A, 368, 369, 370, 373, 376, 377, 380, 381, 382, 384, 385, 386, 387, 391, 394, 396, and 399—[REMOVED]

Accordingly, by the authority of 10 U.S.C. 301, 32 CFR Parts 341, 342, 348, 350, 353, 363, 364, 365, 366, 367A, 368, 369, 370, 373, 376, 377, 380, 381, 382, 384, 385, 386, 387, 391, 394, 396, and 399 are removed.

Dated: December 19, 2003.
L.M. Bynum,
Alternate OSD Federal Register Liaison Officer, Department of Defense.

[FR Doc. 03-31792 Filed 12-24-03; 8:45 am]

BILLING CODE 5001-06-M